DEPARTMENT OF JUSTICE

Office of Juvenile Justice and Delinquency Prevention

[OJP (OJJDP) Docket No.1379]

Notice of Funding Availability for Girls Study Group

AGENCY: Office of Juvenile Justice and Delinquency Prevention, Office of Justice Programs, Justice.

ACTION: Notice of funding availability.

SUMMARY: The Office of Juvenile Justice and Delinquency Prevention (OJJDP) is soliciting applications from public or private agencies or organizations to assemble and convene a Girls Study Group. The purpose of the Girls Study Group is to develop a sound theoretical and empirical foundation to guide future development, testing, and dissemination of strategies to effectively prevent and reduce girls' involvement in delinquency and violence and reduce the negative consequences of such involvement. The Girls Study Group will provide state and local policymakers and practitioners with theoretically sound, culturally and developmentally appropriate, and empirically grounded strategies (encompassing program elements, principles, and policies) to prevent and reduce female delinquency and its consequences. One 2-year cooperative agreement will be awarded.

DATES: Applications must be received by September 22, 2003.

ADDRESS: All applications must be completed online using OJP's Grants Management System (http://www.ojp.usdoj.gov/fundopps.htm). Faxed or e-mailed applications will not be accepted.

FOR FURTHER INFORMATION CONTACT: Barbara Allen-Hagan, by telephone, at 202-307-1308 (this is not a toll-free number) or by e-mail, at barbara@ojp.usdoj.gov.

SUPPLEMENTARY INFORMATION: The ultimate goal of the Girls Study Group project is to develop the research foundation that communities need to make sound decisions about how best to prevent and reduce delinquency and violence by girls. The Girls Study Group will consist of 12 to 15 individuals who have the collective expertise (both practical and theoretical) in female development and juvenile justice system involvement to undertake a comprehensive study of this kind.

The successful applicant must possess the necessary leadership, organizational, and analytical capabilities essential for the Study Group's success. The project tasks require the ability to organize and convene a group of researchers and practitioners with recognized expertise in diverse areas of female juvenile delinquency, child development and adolescent health; childhood victimization (including child maltreatment, domestic violence, and other forms of victimization); mental health; substance abuse; community-based treatment; youth work and outreach; the juvenile justice, child welfare, and related systems; and education. Expertise in statistics, research methodology, prevention research, and program evaluation is also required. The successful applicant must also demonstrate the ability to lead and interact with group members in order to coordinate a comprehensive literature review, synthesize information from diverse sources, recommend future research topics, and produce interim and final reports and related publications that effectively communicate the results to a broad audience of Federal, State, and local policymakers, practitioners, and researchers.

Because this is a cooperative agreement, OJJDP will review and approve all project consultants, plans, and products developed.

Interested applicants may access the program announcement for the Girls Study Group at OJJDP's Web site (http://www.ojp.usdoj.gov/ojjdp, click on “Grants & Funding”).

Dated: July 18, 2003.
J. Robert Flores,
Administrator, Office of Juvenile Justice and Delinquency Prevention.

[FR Doc. 03-18760 Filed 7-23-03; 8:45 am]

BILLING CODE 4410-18-P